DEPARTMENT OF TRANSPORTATION

Federal Aviation Administration

14 CFR Part 71

[Docket No. FAA-2003-14937; Airspace Docket No. 03-ACE-40]

Modification of Class D Airspace; and Modification of Class E Airspace; Sioux City, IA

AGENCY: Federal Aviation Administration (FAA), DOT.

ACTION: Direct final rule; request for comments.

SUMMARY: Sioux Gateway Airport, Sioux City, IA, has been renamed Sioux Gateway/Col. Bud Day Field. An examination of controlled airspace for Sioux City, IA revealed discrepancies in the Sioux Gateway/Col. Bud Day Field airport reference point used in the legal descriptions for the Sioux City, IA Class D and Class E airspace areas. The intended effect of this rule is to replace ``Sioux Gateway Airport'' in the legal descriptions of Sioux City, IA Class D and Class E airspace areas with ``Sioux Gateway/Col. Bud Day Field,'' to incorporate the current Sioux Gateway/Col. Bud Day Field airport reference point into the legal descriptions of these airspace areas and to bring the legal descriptions into compliance with FAA Orders.

DATES: This direct final rule is effective on 0901 UTC, September 4, 2003. Comments for inclusion in the Rules Docket must be received on or before June 10, 2003.

ADDRESSES: Send comments on this proposal to the Docket Management System, U.S. Department of Transportation, Room Plaza 401, 400 Seventh Street, SW., Washington, DC 20590-0001. You must identify the docket number FAA-2003-14937/Airspace Docket No. 03-ACE-40, at the beginning of your comments. You may also submit comments on the Internet at http://dms.dot.gov. You may review the public docket containing the proposal, any comments received, and any final disposition in person in the Dockets Office between 9 a.m. and 5 p.m., Monday through Friday, except Federal holidays. The Docket Office (telephone 1-800-647-5527) is on the plaza level of the Department of Transportation NASSIF Building at the above address.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION: This amendment to 14 CFR part 71 modifies the Class D airspace area, the Class E airspace area designated as an extension to the Class D airspace area, the Class E airspace designated as a surface area and the Class E airspace area extending upward from 700 feet above the surface at Sioux City, IA. It replaces “Sioux Gateway Airport,” the former name of the airport, with “Sioux Gateway/Col. Bud Day Field,” the new name of the airport, in the legal descriptions. This amendment also incorporates the current Sioux Gateway/Col. Bud Day Field airport reference point into the legal descriptions of these airspace areas. It brings the legal description of these airspace areas into compliance with FAA Order 7400.2E, Procedures for Handling Airspace Matters. The areas will be depicted on appropriate aeronautical charts. Class D airspace areas are published in paragraph 5000 of FAA Order 7400.9K, dated August 30, 2002, and effective September 16, 2002, which is incorporated by reference in 14 CFR 71.1. Class E airspace areas designated as an extension to a Class D or Class E surface area, Class E airspace designated as surface areas and the Class E airspace areas extending upward from 700 feet or more above the surface of the earth are published in paragraph 6004, 6002 and 6005 respectively of the same FAA Order. The Class D and Class E airspace designations listed in this document will be published subsequently in the Order.

The Direct Final Rule Procedure

The FAA anticipates that this regulation will not result in adverse or negative comment and, therefore, is issuing it as a direct final rule. Previous actions of this nature have not been controversial and have not resulted in adverse comments or objections. Unless a written adverse or negative comment, or a written notice of intent to submit an adverse or negative comment is received within the comment period, the regulation will become effective on the date specified above. After the close of the comment period, the FAA will publish a document in the Federal Register indicating that no adverse or negative comments were received and confirming the date on which the final rule will become effective. If the FAA does receive, within the comment period, an adverse or negative comment, or written notice of intent to submit such a comment, a document withdrawing the direct final rule will be published in the Federal Register, and a notice of proposed rulemaking may be published with a new comment period.

Comments Invited

Interested parties are invited to participate in this rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made “Comments to Docket No. FAA-2003-14937/Airspace Docket No. 03-ACE-40.” The postcard will be date/time stamped and returned to the commenter.

Agency Findings

The regulations adopted herein will not have a substantial direct effect on the States, on the relationship between the National Government and the States, or on the distribution of power and responsibilities among the various levels of government. Therefore, it is determined that this final rule does not have federalism implications under Executive Order 13132.

The FAA has determined that this regulation is noncontroversial and unlikely to result in adverse or negative comments. For the reasons discussed in the preamble, I certify that this regulation (1) is not a “significant regulatory action” under Executive Order 12866; (2) is not a “significant rule” under Department of Transportation (DOT) Regulatory Policies and Procedures (44 FR 11034, February 26, 1979); and (3) if promulgated, will not have a significant economic impact, positive or negative, on a substantial number of small entities under the criteria of the Regulatory Flexibility Act.

List of Subjects in 14 CFR Part 71

Airspace, Incorporation by reference, Navigation (air).

Adoption of the Amendment

Accordingly, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9K, dated August 30, 2002, and effective September 16, 2002, is amended as follows:

Paragraph 5000 Class D Airspace.

* * * * *

ACE IA D Sioux City, IA

Sioux City, Sioux Gateway/Col. Bud Day Field, IA

(Lat. 42°24′09″N., long. 96°23′04″W.)

South Sioux City, Martin Field, NE

(Lat. 42°27′15″N., long. 96°28′21″W.)

That airspace extending upward from the surface to and including 3,600 feet MSL within a 4.3-mile radius of Sioux Gateway/Col. Bud Day Field, excluding that airspace within a 1-mile radius of the South Sioux City, Martin Field. This Class D airspace area is effective during the specific dates and times established in advance by a Notice to Airmen. The effective date and time will thereafter be continuously published in the Airport/Facility Directory.

* * * * *

Paragraph 6004 Class E Airspace Designated as an Extension to a Class D or Class E Surface Area.

* * * * *

ACE IA E4 Sioux City, IA

Sioux City, Sioux Gateway/Col. Bud Day Field, IA

(Lat. 42°24′09″N., long. 96°23′04″W.)

Sioux City VORTAC

(Lat. 42°20′40″N., long. 96°19′25″W.)

Gateway NDB

(Lat. 42°24′29″N., long. 96°23′09″W.)

That airspace extending upward from the surface within 2.2 miles each side of the 140° radial of the Sioux City VORTAC extending from the 4.3-mile radius of the Sioux Gateway/Col. Bud Day Field to 5.3 miles southeast of the VORTAC and 2.5 miles each side of the 170° bearing from the Gateway NDB extending from the 4.3-mile radius of Sioux Gateway/Col. Bud Day Field to 7 miles south of the NDB. This Class E airspace area is effective during the specific dates and times established in advance by a Notice to Airmen. The effective date and time will thereafter be continuously published in the Airport/Facility Directory.

* * * * *

Paragraph 6002 Class E Airspace Designated as Surface Areas.

* * * * *

ACE IA E2 Sioux City, IA

Sioux City, Sioux Gateway/Col. Bud Day Field, IA

(Lat. 42°24′09″ N., long. 96°23′04″ W.)

South Sioux City, Martin Field, NE

(Lat. 42°27′15″ N., long. 96°28′21″ W.)

Sioux City VORTAC

(Lat. 42°20′40″ N., long. 96°19′25″ W.)

Gateway NDB

(Lat. 42°24′29″ N., long. 96°23′09″ W.)

Within a 4.3-mile radius of Sioux Gateway/Col. Bud Day Field, excluding that airspace within a 1-mile radius of the South Sioux City, Martin Field and that airspace extending upward from the surface within 2.2 miles each side of the 140° radial of the Sioux City VORTAC extending from the 4.3-mile radius of the Sioux Gateway/Col. Bud Day Field to 5.3 miles southeast of the VORTAC and 2.5 miles each side of the 170° bearing from the Gateway NDB extending from the 4.3-mile radius of Sioux Gateway/Col. Bud Day Field to 7 miles south of the NDB. This Class E airspace area is effective during the specific dates and times established in advance by a Notice to Airmen. The effective date and time will thereafter be continuously published in the Airport/Facility Directory.

* * * * *

Paragraph 6005 Class E Airspace Areas Extending Upward From 700 Feet or More Above the Surface of the Earth.

* * * * *

ACE IA E5 Sioux City, IA

Sioux City, Sioux Gateway/Col. Bud Day Field, IA

(Lat. 42°24′09″N., long. 96°23′04″W.)

Sioux City VORTAC

Lat. 42°20′40″N., long. 96°19′25″W.)

That airspace extending upward from 700 feet above the surface within a 7-mile radius of Sioux Gateway/Col. Bud Day Field and within 3 miles each side of the 139° radial of the Sioux City VORTAC extending from the 7-mile radius to 17.8 miles southeast of the VORTAC and within 3 miles each side of the 319° radial of the Sioux City VORTAC extending from the 7-mile radius to 25.3 miles northwest of the VORTAC and within 2 miles each side of the 360° bearing from the Sioux Gateway/Col. Bud Day Field extending from the 7-mile radius to 9.2 miles north of the airport.

* * * * *

Issued in Kansas City, MO on April 28, 2003.
Herman J. Lyons, Jr.,
Manager, Air Traffic Division, Central Region.

[FR Doc. 03-11640 Filed 5-8-03; 8:45 am]

BILLING CODE 4910-13-M